DEPARTMENT OF AGRICULTURE

Forest Service

Notice of Modoc County RAC Meetings

AGENCY: Forest Service, USDA.

ACTION: Notice of Modoc County RAC meetings.

SUMMARY: Pursuant to the authorities in the Federal Advisory Committees Act (Pub. L. 92-463) and under the Secure Rural Schools and Community Self-Determination Act of 2000 (Pub. L. 106-393), the Modoc National Forest's Modoc County Resource Advisory Committee will meet Monday, August 11, and Monday, August 18, 2003, from 6 to 8 p.m. in Alturas, California. The meetings are open to the public.

SUPPLEMENTARY INFORMATION: August 11 Agenda topics include approval of July 21 minutes, reports from subcommittees, vote on two projects; and review proposed projects for fiscal year 2004 that will improve the maintenance of existing infrastructure, implement stewardship objectives that enhance forest ecosystems, provide economic benefits and restore and improve health and water quality that meet the intent of Pub. L. 106-393. Agenda topics for the August 18 meeting will include reports from subcommittees, and continued review of 2004 promised projects. Both meetings will be held at Modoc National Forest Office, Conference Room, 800 West 12th St., Alturas, California from 6 to 8 p.m. Time will be set aside for public comments at the beginning of both meetings.

FOR FURTHER INFORMATION CONTACT: Contact Forest Supervisor Stan Sylva, at (530) 233-8700; or Public Affairs Officer Nancy Gardner at (530) 233-8713.

Stanley G. Sylva,
Forest Supervisor.

[FR Doc. 03-19977 Filed 8-5-03; 8:45 am]

BILLING CODE 3410-11-M